ENVIRONMENTAL PROTECTION AGENCY

[ER-FRL-9017-5]

Environmental Impact Statements; Notice of Availability

Responsible Agency: Office of Federal Activities, General Information (202) 564-7146 or http://www.epa.gov/compliance/nepa/.

Weekly Receipt of Environmental Impact Statements

Filed 10/06/2014 Through 10/10/2014

Pursuant to 40 CFR 1506.9.

Notice

Section 309(a) of the Clean Air Act requires that EPA make public its comments on EISs issued by other Federal agencies. EPA's comment letters on EISs are available at: http://www.epa.gov/compliance/nepa/eisdata.html.

EIS No. 20140301, Draft EIS, FHWA, FL, SR 87 Connector, Comment Period Ends: 12/01/2014, Contact: Joseph Sullivan 850-553-2248.

EIS No. 20140302, Final EIS, FERC, TX, Corpus Christi LNG Project, Review Period Ends: 11/17/2014, Contact: Kandilarya Barakat 202-502-6365.

EIS No. 20140303, Final EIS, EPA, FL, Designation of an Ocean Dredged Material Disposal Site Offshore of Jacksonville, Review Period Ends: 11/17/2014, Contact: Christopher J. McArthur 404-562-9391.

EIS No. 20140304, Final EIS, USACE, CA, Berths 212-224 (YTI) Container Terminal Improvements Project, Review Period Ends: 11/17/2014, Contact: Theresa Stevens 805-585-2146.

Amended Notices

EIS No. 20140240, Draft Supplement, USACE, WA, Mount St. Helens Long-Term Sediment Management Plan, Comment Period Ends: 10/21/2014, Contact: Tina Teed 503-808-4960.

Revision to FR Notice Published 09/26/2014;

Extending Comment Period from 10/06/2014 to 10/21/2014.

Dated: October 14, 2014.
Dawn Roberts,
Management Analyst, NEPA Compliance Division, Office of Federal Activities.

[FR Doc. 2014-24734 Filed 10-16-14; 8:45 am]

BILLING CODE 6560-50-P